POSTAL SERVICE

United States Postal Service Board of Governors

Sunshine Act Meeting

Date and Times: Tuesday, April 15, 2004; 10:30 a.m. and 2:30 p.m.

Place: Washington, DC, at U.S. Postal Service Headquarters, 475 L'Enfant Plaza, SW., in the Benjamin Franklin Room.

Status: April 15—10:30 a.m. (Closed); 2:30 p.m. (Open).

Matters To Be Considered: Thursday, April 15—10:30 a.m. (Closed)

1. Negotiated Service Agreement.

2. Financial Update.

3. Strategic Planning.

4. Personnel Matters and Compensation Issues.

Thursday, April 15—2:30 p.m. (Open)

1. Minutes of the Previous Meeting, March 2, 2004.

2. Remarks of the Postmaster General and CEO.

3. Committee Reports.

Thursday, April 15—2:30 p.m. (Open) [continued]

4. Financing the Postal System, Revenue and Cost Analysis, 2003.

5. Update on usps.com.

6. Tentative Agenda for the May 11-12, 2004, meeting in Dallas, Texas.

FOR FURTHER INFORMATION CONTACT: William T. Johnstone, Secretary of the Board, U.S. Postal Service, 475 L'Enfant Plaza, SW., Washington, DC 20260-1000. Telephone (202) 268-4800.

William T. Johnstone,
Secretary.

[FR Doc. 04-8037 Filed 4-5-04; 4:16 pm]

BILLING CODE 7710-12-M